DEPARTMENT OF THE INTERIOR

Bureau of Land Management

[CA-690-01-1610-JP-064B, C00-927 WHA-ADR]

Temporary Motorized Vehicle use Closure on Selected Federal Lands in San Bernardino County, CA

AGENCY: Bureau of Land Management, Interior.

ACTION: Temporary closure to motorized vehicle use on selected federal lands Edwards Bowl area in San Bernardino County, California.

DATES: The temporary closure was approved October 17, 2001, and is in effect.

ADDRESSES: Bureau of Land Management, Barstow Field Office, 2601 Barstow Rd., Barstow, CA 92311

FOR FURTHER INFORMATION CONTACT: Tim Read, BLM, Barstow Field Office, 2601 Barstow Rd., Barstow, CA 92311. The closure is posted in the Barstow Field Office and at places near and/or within the area to which the closure applies. Maps identifying the affected areas are available at the Barstow Field Office as well as on the Bureau of Land Management (BLM) California Web site at www.ca.blm.gov.

SUPPLEMENTARY INFORMATION: This temporary closure is implemented pursuant to title 43 Code of Federal Regulations (CFR) 8341.2(a). The closure was approved October 17, 2001 and will remain in effect until a Record of Decision is signed on the West Mojave Plan, which is expected to be signed June 2003.

Exceptions to this closure include government vehicles conducting official business which shall be allowed inside the closed areas as authorized. Official business may include public service emergencies, resource monitoring/research, and management activities, and other actions authorized by BLM's Barstow Field Office Manager.

Notice of the proposed closure was published in the Federal Register July 20, 2001 (66 FR 32639-32640).

Dated: October 19, 2001.
Henri Bisson,
Assistant Director Renewable Resources and Planning.

[FR Doc. 01-26827 Filed 10-22-01; 9:33 am]

BILLING CODE 4310-40-M